INTERNATIONAL TRADE COMMISSION

[Investigation No. TA-2104-24]

U.S.-Korea Free Trade Agreement: Potential Economy-Wde and Selected Sectoral Effects

AGENCY: United States International Trade Commission.

ACTION: Rescheduling of public hearing.

SUMMARY: The Commission has rescheduled the public hearing in this investigation from June 7, 2007, to June 20, 2007. As announced in the notice of institution of the investigation published in the Federal Register on May 7, 2007 (72 FR 25779), the hearing will be held at the U.S. International Trade Commission building, 500 E Street, SW., Washington, DC; it will begin at 9:30 a.m. Certain dates relating to the filing of written statements and other documents have been changed; the revised schedule of dates is set out immediately below. All other requirements and procedures set out in the May 7, 2007, notice continue to apply. In the event that, as of the close of business on June 7, 2007, no witnesses are scheduled to appear at the hearing, the hearing will be canceled. Any person interested in attending the hearing as an observer or nonparticipant may call the Secretary to the Commission (202-205-2000) after June 7, 2007 for information concerning whether the hearing will be held.

DATES: April 1, 2007: Receipt of request.

June 6, 2007: Deadline for receipt of requests to appear at hearing.

June 6, 2007: Deadline for filing pre-hearing briefs and statements.

June 20, 2007, 9:30 a.m.: Public hearing.

June 27, 2007: Deadline for filing post-hearing briefs and statements and all other written submissions.

September 20, 2007: Anticipated date for transmitting report to USTR and the Congress.

FOR FURTHER INFORMATION CONTACT: Project Leader Nannette Christ (202-205-3263; nannette.christ@usitc.gov) or Deputy Project Leader Queena Fan (202-205-3055; queena.fan@usitc.gov). For information on legal aspects, contact William Gearhart of the Office of the General Counsel (202-205-3091; william.gearhart@usitc.gov). The media should contact Margaret O'Laughlin, Office of External Relations (202-205-1819; margaret.olaughlin@usitc.gov). General information concerning the Commission may also be obtained by accessing its Internet address (http://www.usitc.gov). Hearing impaired individuals are advised that information on this matter can be obtained by contacting the TDD terminal on 202-205-1810. Persons with mobility impairments who will need special assistance in gaining access to the Commission should contact the Secretary at 202-205-2000.

By order of the Commission.
Issued: May 17, 2007.
Marilyn R. Abbott,
Secretary to the Commission.

[FR Doc. E7-9871 Filed 5-22-07; 8:45 am]

BILLING CODE 7020-02-P